DEPARTMENT OF ENERGY

Secretary of Energy Advisory Board; Notice of Open Meeting

AGENCY: Department of Energy.

SUMMARY: This notice announces an open meeting of the Secretary of Energy Advisory Board. The Federal Advisory Committee Act (Public Law 92-463, 86 Stat. 770), requires that agencies publish these notices in the Federal Register to allow for public participation.

DATES AND TIMES: Friday, February 11, 2000, 9:00 am-3:00 pm.

ADDRESSES: Conference Rooms A-106/A-107, U.S. Department of Energy, Nevada Operations Office, 232 Energy Way, North Las Vegas, Nevada 89030-4199. Note: Members of the public who plan to attend this open meeting are requested to contact Mr. Darwin Morgan, Director of the Office of Public Affairs, U.S. Department of Energy, Nevada Operations Office in advance of the meeting in order to facilitate access to the meeting site. Mr. Morgan may be reached at (702) 295-3521 or via e-mail at morgan@nv.doe.gov.

FOR FURTHER INFORMATION CONTACT: Betsy Mullins, Executive Director, or Richard Burrow, Deputy Director, Secretary of Energy Advisory Board (AB-1), U.S. Department of Energy, 1000 Independence Avenue, SW, Washington, D.C. 20585, (202) 586-7092 or (202) 586-6279 (fax).

SUPPLEMENTARY INFORMATION: The purpose of the Secretary of Energy Advisory Board (The Board) is to provide the Secretary of Energy with essential independent advice and recommendations on issues of national importance. The Board and its subcommittees provide timely, balanced, and authoritative advice to the Secretary of Energy on the Department's management reforms, research, development and technology activities, energy and national security responsibilities, environmental cleanup activities, and economic issues relating to energy.

Tentative Agenda

Friday, February 11, 2000

9:00 am-9:15 am—Welcome & Opening Remarks—SEAB Chairman Andrew Athy

9:15 am-9:35 am—Opening Remarks—Energy Secretary Bill Richardson

9:35 am-9:45 am—Introduction of New Board Members

9:45 am-10:15 am—Briefing on the DOE's Racial Profiling Task Force Report

10:15 am-11:00 am—Board Action on the Laboratory Operations Board's External Members' Report on Laboratory Directed Research and Development.

11:00 am-11:45 am—Updates on SEAB Subcommittees and Working Group Activities:

—Russia Task Force

—Education Working Group

11:45 am-1:00 pm—Lunch

1:10 pm-1:30 pm—Updates on SEAB Subcommittees and Working Group Activities:

—Openness Advisory Panel

—NIF Task Force

1:30 pm-2:45 pm—Update on DOE Activities:

—National Nuclear Security Administration

—Energy Efficiency

2:45 pm-3:00 pm—Public Comment Period

3:00 pm-Closing Remarks & Adjourn

This tentative agenda may change. We will have a final agenda available at the meeting.

Public Participation

The Chairman of the Secretary of Energy Advisory Board is empowered to conduct the meeting in a way that will, in the Chairman's judgment, facilitate the orderly conduct of business. During its meeting in North Las Vegas, Nevada, the Board welcomes public comment. Members of the public will be heard in the order in which they sign up at the beginning of the meeting. The Board will make every effort to hear the views of all interested parties. You may submit written comments to Betsy Mullins, Executive Director, Secretary of Energy Advisory Board, AB-1, US Department of Energy, 1000 Independence Avenue, SW, Washington, D.C. 20585. This notice is being published less than 15 days before the date of the meeting due to the programmatic issues that needed to be resolved prior to publication.

Minutes

We will make minutes and a transcript of the meeting available for public review and copying approximately 30 days following the meeting at the Freedom of Information Public Reading Room, 1E-190 Forrestal Building, 1000 Independence Avenue, SW, Washington, D.C., between 9:00 am and 4:00 pm, Monday through Friday except Federal holidays. You can find more information on the Secretary of Energy Advisory Board at the Board's web site, located at http://www.hr.doe.gov/seab

Issued at Washington, D.C., on January 31, 2000.
Rachel M. Samuel,
Deputy Advisory Committee Management Officer.

[FR Doc. 00-2542 Filed 2-3-00; 8:45 am]

BILLING CODE 6450-01-P